FEDERAL COMMUNICATIONS COMMISSION

[DA 15-53]

Notice of Intent To Terminate 214 Authorization

AGENCY: Federal Communications Commission.

ACTION: Notice.

SUMMARY: This notice serves as final opportunity for Wypoint Telecom, Inc. (Wypoint) to respond to the Department of Justice, the Federal Bureau of Investigation, and the Department of Homeland Security (Agencies) request that the Commission terminate and declare null, void and no longer in effect, the international 214 authorization issued to Wypoint by the Commission. The Agencies state that Wypoint has failed to comply with commitments and undertakings with these Agencies, which is a condition on the 214 authorization issued by the Commission. The FCC now provides final notice to Wypoint that it intends to declare Wypoint's international 214 authorization terminated for failure to comply with conditions of its authorization.

DATES: Submit comments on or before February 11, 2015.

ADDRESSES: Wypoint should address its response to the Chief, International Bureau and file it in File No. ITC-214-20070601-00211 via IBFS at http://licensing.fcc.gov/myibfs/pleading.do. It should also copy the Associate Chief of the Policy Division, International Bureau at David.Krech@fcc.gov.

FOR FURTHER INFORMATION CONTACT: David Krech, Policy Division, International Bureau, at (202) 418-7443 or David.Krech@fcc.gov.

SUPPLEMENTARY INFORMATION: The proceeding in this Notice is treated as a “permit-but-disclose” proceeding in accordance with the Commission's ex parte rules.

Federal Communications Commission.
Howard Griboff,
Acting Chief, Policy Division, International Bureau.

[FR Doc. 2015-01440 Filed 1-26-15; 8:45 am]

BILLING CODE 6712-01-P